DEPARTMENT OF ENERGY

Federal Energy Regulatory Commission

[Docket No. RP07-33-000]

Williston Basin Interstate Pipeline Company; Notice of Proposed Changes on FERC Gas Tariff

October 26, 2006.

Take notice that on October 24, 2006, Williston Basin Interstate Pipeline Company (Williston Basin) tendered for filing as part of its FERC Gas Tariff, Second Revised Volume No. 1, the following tariff sheets, to become effective November 23, 2006:

Tenth Revised Sheet No. 3

Seventh Revised Sheet No. 35

Fourth Revised Sheet No. 51

Fourth Revised Sheet No. 95

Fourth Revised Sheet No. 111

Third Revised Sheet No. 120

Fourth Revised Sheet No. 125

First Revised Sheet No. 165

Seventh Revised Sheet No. 179A

Sixth Revised Sheet No. 252A.02

Fourth Revised Sheet No. 252A.04

Third Revised Sheet No. 268

Third Revised Sheet No. 506A

Third Revised Sheet No. 531

Second Revised Sheet No. 532

Fourth Revised Sheet No. 537

Third Revised Sheet No. 606A

Ninth Revised Sheet No. 608A

Second Revised Sheet No. 631

Sixth Revised Sheet No. 633

Second Revised Sheet No. 633A

Second Revised Sheet No. 656

First Revised Sheet No. 687

Fifth Revised Sheet No. 750

Williston Basin states that the revised tariff sheets are being filed to make certain tariff modifications necessary to correct and/or clarify its Tariff as more fully explained in the filing.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-18526 Filed 11-2-06; 8:45 am]

BILLING CODE 6717-01-P